SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before August 1, 2005.

ADDRESSES: Send all comments regarding whether these information collections are necessary for the proper performance of the function of the agency, whether the burden estimates are accurate, and if there are ways to minimize the estimated burden and enhance the quality of the collections, to Jacqueline West, Program Analyst, Office of Business Development, Small Business Administration, 409 3rd Street SW., Suite 8800, Washington, DC 20416.

FOR FURTHER INFORMATION CONTACT: Jacqueline West, Program Analyst, 202-205-7581, jacqueline.west@sba.gov. Curtis B. Rich, Management Analyst, 202-205-7030, curtis.rich@sba.sba.

SUPPLEMENTARY INFORMATION: Title: “Nomination for the Small Business Prime Contractor & Nomination of the Small Business Subcontractor of the Year Award”.

Description of Respondents: Prime Contractor, Subcontractor.

Form No's: 883 and 1375.

Annual Responses: 469.

Annual Burden: 1,876.

Title: “Representatives Used and Compensation Paid for Services in Connection with obtaining Federal Contracts”.

Description of Respondents: 8(a) Program Participant.

Form No's: 1790.

Annual Responses: 13,884.

Annual Burden: 13,884.

ADDRESSES: Send all comments regarding whether this information collection is necessary for the proper performance of the function of the agency, whether the burden estimates are accurate, and if there are ways to minimize the estimated burden and enhance the quality of the collection, to George Solomon, Supervisory Business Development, Office of Business Initiatives, Small Business Administration, 409 3rd Street SW., Suite 6100, Washington, DC 20416.

FOR FURTHER INFORMATION CONTACT: George Solomon, Supervisory Business Development, 202-205-7246, george.solomon@sba.gov. Curtis B. Rich, Management Analyst, 202-205-7030, curtis.rich@sba.sba.

SUPPLEMENTARY INFORMATION: Title: “Entrepreneurial Development Impact Survey”.

Description of Respondents: Small Business Clients owners & employees, prospective Entrepreneurs and other student of enterprise.

Form No's: 2214.

Annual Responses: 14,000.

Annual Burden: 2,333.

ADDRESSES: Send all comments regarding whether this information collection is necessary for the proper performance of the function of the agency, whether the burden estimates are accurate, and if there are ways to minimize the estimated burden and enhance the quality of the collection, to Sandy Johnston, Program Analyst, Office of Financial Assistance, Small Business Administration, 409 3rd Street SW., Suite 8300, Washington, DC 20416.

FOR FURTHER INFORMATION CONTACT: Sandy Johnston, Program Analyst, 202-205-7528, sandy.johnston@sba.gov Curtis B. Rich, Management Analyst, 202-205-7030 curtis.rich@sba.sba.

SUPPLEMENTARY INFORMATION: Title: “Secondary Market Assignment and Disclosure Form”.

Description of Respondents: Secondary Market Participants.

Form No's: 1088.

Annual Responses: 5,000.

Annual Burden: 7,500.

Jacqueline White,
Chief, Administrative Information Branch.

[FR Doc. 05-10777 Filed 5-27-05; 8:45 am]

BILLING CODE 8025-01-P